DEPARTMENT OF HOUSING AND URBAN DEVELOPMENT

[Docket No. FR-5187-N-49]

Notice of Proposed Information Collection: Comment Request; Customer Satisfaction Surveys

AGENCY: Office of the Chief Information Officer, HUD.

ACTION: Notice.

SUMMARY: The proposed information collection requirement described below will be submitted to the Office of Management and Budget (OMB) for review, as required by the Paperwork Reduction Act. The Department is soliciting public comments on the subject proposal.

Executive Order 12862, “Setting Customer Service Standards “requires that Federal agencies provide the highest quality service to our customers by identifying them and determining what they think about our services. The surveys covered in the request for a generic clearance will provide HUD a means to gather this data directly from our customers. HUD will conduct various customer satisfaction surveys to gather feedback and data directly from our customers to determine the kind and quality of services and products they want and expect to receive.

DATES: Comments due: October 3, 2008.

ADDRESSES: Interested persons are invited to submit comments regarding this proposal. Comments should refer to the proposal by name and/or OMB Control Number (2535-0116) and should be sent to: HUD Desk Officer, Office of Management and Budget, New Executive Office Building, Washington, DC 20503; 202-395-6974.

FOR FURTHER INFORMATION CONTACT: Lillian L. Deitzer, Departmental Reports Management Officer, QDAM, Department or Housing and Urban Development, 451 Seventh Street, SW., Room 4176, Washington, DC 20410; telephone: 202-708-2374, (this is not a toll-free number) or e-mail Ms. Deitzer at Lillian_L._Deitzer@HUD.gov for a copy of the proposed form and other available information.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also Lists the Following Information

Title of Proposal: Customer Satisfaction Surveys.

OMB Control Number, if applicable: 2535-0116.

Description of the need for the information and proposed use: Executive Order 12862, “Setting Customer Service Standards” requires that Federal agencies provide the highest quality service to our customers by identifying them and determining what they think about our services. The surveys covered in the request for a generic clearance will provide HUD a means to gather this data directly from our customers. HUD will conduct various customer satisfaction surveys to gather feedback and data directly from our customers to determine the kind and quality of services and products they want and expect to receive.

Agency form numbers, if applicable: None.

Members of Affected Public: Individuals or Households, Business or Other for-Profit, Not-for-Profit Institutions, State, Local or Tribal.

Frequency of Submission: On occasion.

Estimation of the total number of hours needed to prepare the information collection including number of respondents, frequency of response, and hours of response:

| Number of respondents | Annual responses | x | Hours per response | = | Burden hours
Reporting Burden: | 1 | 1 |  | 1 |  | 1

Total Estimated Burden Hours: 1.

Status of the proposed information collection: Extension of a currently approved collection.

Authority: Section 3506 of the Paperwork Reduction Act of 1995, 44 U.S.C. Chapter 35, as amended.

Dated: July 29, 2008.
Lillian L. Deitzer,
Departmental Paperwork Reduction Act Officer, Office of the Chief Information Officer.

[FR Doc. E8-17811 Filed 8-1-08; 8:45 am]

BILLING CODE 4210-67-P